DEPARTMENT OF COMMERCE

National Oceanic and Atmospheric Administration

[RTID 0648-XE210]

North Pacific Fishery Management Council; Public Meeting

AGENCY: National Marine Fisheries Service (NMFS), National Oceanic and Atmospheric Administration (NOAA), Commerce.

ACTION: Notice of hybrid public meeting.

SUMMARY: The North Pacific Fishery Management Council (Council) Partial Coverage Fishery Monitoring Advisory Committee (PCFMAC) will meet September 16, 2024.

DATES: The meetings will be held on Monday, September 16, 2024, from 8:30 a.m. to 4 p.m., Alaska Time.

ADDRESSES: For members attending in Seattle, the in-person component of the meeting will be held at the Alaska Fishery Science Center in Room 2079, 7600 Sand Point Way NE, Building 4, Seattle, WA 98115. If you plan to attend in-person, you need to notify Sara Cleaver (sara.cleaver@noaa.gov) at least 2 days prior to the meeting (or 2 weeks prior if you are a foreign national). You will also need a valid U.S. Identification Card. For members attending in Anchorage, the in-person component of the meeting will be held at the North Pacific Fishery Management Council office, 1007 W 3rd Ave., Suite 400, Anchorage, AK 99501. If you are attending virtually, join the meeting online through the link at https://meetings.npfmc.org/Meeting/Details/3057.

Council address: North Pacific Fishery Management Council, 1007 W 3rd Ave., Anchorage, Suite 400, AK 99501-2252; telephone: (907) 271-2809.

Instructions for attending the meeting are given under SUPPLEMENTARY INFORMATION, below.

FOR FURTHER INFORMATION CONTACT: Sara Cleaver, Council staff; telephone: (907) 271-2809; email: sara.cleaver@noaa.gov. For technical support, please contact Council administrative staff, email: npfmc.admin@noaa.gov.

SUPPLEMENTARY INFORMATION:

Agenda

Monday, September 16, 2024

The September 2024 PCFMAC agenda will include: (a) updates since the last PCFMAC meeting; (b) the 2025 Observer Annual report; (c) future scheduling, and (d) other business. The agenda is subject to change, and the latest version will be posted at https://meetings.npfmc.org/Meeting/Details/3057 prior to the meeting, along with meeting materials.

Connection Information

You can attend the meeting online using a computer, tablet, or smartphone, or by phone only. Connection information will be posted online at: posted at https://meetings.npfmc.org/Meeting/Details/3057. If you are attending the meeting in-person, please note that all attendees will be required to wear a mask.

Public Comment

Public comment letters will be accepted and should be submitted electronically to posted at https://meetings.npfmc.org/Meeting/Details/3057.

Authority: 16 U.S.C. 1801 et seq.

Dated: August 23, 2024.
Rey Israel Marquez,
Acting Deputy Director, Office of Sustainable Fisheries, National Marine Fisheries Service.

[FR Doc. 2024-19322 Filed 8-27-24; 8:45 am]

BILLING CODE 3510-22-P